DEPARTMENT OF COMMERCE

National Oceanic and Atmospheric Administration

RIN 0648-XJ11

U.S. Climate Change Science Program Draft Unified Synthesis Product Report: Global Climate Change in the United States

AGENCY: National Oceanic and Atmospheric Administration (NOAA), Department of Commerce.

ACTION: Notice of availability and request for public comments.

SUMMARY: The National Oceanic and Atmospheric Administration publishes this notice to announce a 28-day public comment period for the draft report titled, U.S. Climate Change Science Program Unified Synthesis Product (USP). This draft report is being released solely for the purpose of pre-dissemination peer review under applicable information quality guidelines. This document has not been formally disseminated by NOAA. It does not represent and should not be construed to represent any Agency policy or determination. After consideration of comments received on the draft report, a revised version along with the comments received will be published on the CCSP web site.

DATES: Comments must be received by August 14, 2008.

ADDRESSES: The draft Unified Synthesis Product: is posted on the CCSP Web site at:

http://www.climatescience.gov/Library/sap/usp/default.php.

Detailed instructions for making comments on this draft report are also provided on the CCSP webpage. Comments must be prepared in accordance with these instructions and submitted to:

USP-comments@climatescience.gov

FOR FURTHER INFORMATION CONTACT: Dr. Anne Waple, Climate Change Science Program Office, 1717 Pennsylvania Avenue NW, Suite 250, Washington, DC 20006, Telephone: (202) 419-3463.

SUPPLEMENTARY INFORMATION: The CCSP was established by the President in 2002 to coordinate and integrate scientific research on global change and climate change sponsored by 13 participating departments and agencies of the U.S. Government. The CCSP is charged with preparing information resources that promote climate-related discussions and decisions, including scientific synthesis and assessment analyses that support evaluation of important policy issues.

Dated: July 14, 2008.
William J. Brennan,
Assistant Secretary of Commerce for Oceans and Atmosphere, and Acting Director, Climate Change Science Program.

[FR Doc. E8-16386 Filed 7-16-08; 8:45 am]

BILLING CODE 3510-12-S